DEPARTMENT OF JUSTICE

Notice of Lodging of Proposed Consent Decree Under the Clean Water Act and the Resource Conservation and Recovery Act

On February 27, 2020, the Department of Justice lodged a proposed Consent Decree with the United States District Court for the Western District of Missouri in the lawsuit entitled United States v. Dyno Nobel, Inc., Case No. 3:19-CV-05031-MDH.

The United States filed this lawsuit against Dyno Nobel, Inc., (Dyno Nobel) for alleged violations of the Clean Water Act (CWA) and the Resource Conservation and Recovery Act (RCRA) at its facilities in Carthage, Missouri and Louisiana, Missouri. Specifically, the United States alleged that Dyno Nobel violated the CWA at both facilities by discharging pollutants in amounts that exceeded the facilities' permitted limits; failing to properly sample and monitor discharges; and failing to appropriately manage stormwater. The United States further alleged that Dyno violated RCRA by disposing of hazardous waste at both facilities without a permit, and at the Carthage Facility, by failing to meet requirements for the generation and transportation of hazardous waste.

Under the proposed Consent Decree Dyno Nobel will undertake injunctive measures at both its facilities. At its Carthage facility, Dyno Nobel will separate stormwater from process wastewater, ship high-strength wastewater off-site, update its stormwater program, sample and clean up discrete areas, and construct a baghouse to address dope releases. At its Louisiana facility, Dyno will perform a sewer survey and update its stormwater program. Dyno Nobel will also pay a civil penalty of $2.9 million in addition to interest. In return, the United States agrees not to sue for the claims alleged in the Complaint and for additional permit violations through, the date of lodging (February 27, 2020).

The publication of this notice opens a period for public comment on the proposed Consent Decree. Comments should be addressed to the Assistant Attorney General, Environment and Natural Resources Division, and should refer to United States v. Dyno Nobel, Inc., D.J. Ref. No. 90-5-1-1-11542. All comments must be submitted no later than thirty (30) days after the publication date of this notice. Comments may be submitted either by email or by mail:

To submit comments: | Send them to:
By email | pubcomment-ees.enrd@usdoj.gov.
By mail | Assistant Attorney General U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $10.25 (25 cents per page reproduction cost) payable to the United States Treasury.

Susan M. Akers,
Assistant Section Chief, Environmental Enforcement Section, Environment and Natural Resources Division.

[FR Doc. 2020-04393 Filed 3-3-20; 8:45 am]

BILLING CODE 4410-15-P